DEPARTMENT OF THE INTERIOR

Bureau of Land Management

[LLAZP02000.L14400000.ER0000.19X.AZA-34177]

Notice of Availability for the Sonoran Valley Parkway Project Final Environmental Impact Statement, Maricopa County, AZ

AGENCY: Bureau of Land Management, Interior.

ACTION: Notice of availability.

SUMMARY: In accordance with the National Environmental Policy Act of 1969, as amended, and the Federal Land Policy and Management Act of 1976, as amended, the Bureau of Land Management (BLM) Lower Sonoran Field Office has prepared a Final Environmental Impact Statement (EIS) for the Sonoran Valley Parkway Project (Parkway) and by this notice is announcing its availability.

DATES: The BLM will not issue a final decision on the proposal for a minimum of 30 days after the date that the Environmental Protection Agency publishes its Notice of Availability in the Federal Register.

ADDRESSES: Copies of the Final EIS are available for public inspection at the following locations: BLM Lower Sonoran Field Office, 21605 North 7th Avenue, Phoenix, AZ 85027; Avondale Civic Center Library, 11350 Civic Center Drive, Avondale, AZ 85323; Sam Garcia Western Avenue Library, 495 E Western Avenue, Avondale, AZ 85323; Goodyear Branch Library, 14455 W Van Buren Street C-101, Goodyear, AZ 85338; and Maricopa Public Library, 2700 N Central Avenue Suite 700, Phoenix, AZ 85004. It may also be reviewed on the BLM ePlanning website at https://go.usa.gov/xP9zF.

FOR FURTHER INFORMATION CONTACT: Edward J Kender, Lower Sonoran Field Manager, at the previously listed address, telephone 623-580-5500, or email ekender@blm.gov. Persons who use a telecommunications device for the deaf (TDD) may call the Federal Relay Service (FRS) at 1-800-877-8339 to contact Mr. Kender during normal business hours. The FRS is available 24 hours a day, 7 days a week, to leave a message or question for Mr. Kender. You will receive a reply during normal business hours.

SUPPLEMENTARY INFORMATION: The City of Goodyear has requested a 250-foot-wide right-of-way (ROW) from the BLM to construct an approximately 15- to 18-mile long, two- to six-lane Parkway in Rainbow Valley, in Maricopa County, Arizona. The project is primarily located on BLM-administered land with smaller sections on State and private land. The BLM's purpose and need for the project is to respond to the application for a ROW grant and decide whether to approve, approve with modifications, or deny the project ROW.

The Parkway would be constructed in phases, beginning with two lanes, with potential future expansions to four and six lanes. Expansion beyond a two-lane Parkway would require further authorizations from the BLM and would be subject to additional environmental review.

The Parkway will provide a direct route in southern Goodyear connecting Rainbow Valley Road to the community of Mobile and State Route 238, and will improve emergency response times. The BLM Preferred and the Applicant Proposed Alternatives are located almost entirely within the El Paso Natural Gas multi-use utility corridor. The Final EIS addresses in detail the direct, indirect, and cumulative impacts for a suite of alternatives. The BLM identified a portion of Alternative A, the applicant proposed action, in combination with Sub-Alternative G, as the BLM Preferred Alternative. It would be approximately 15 miles long; and include approximately 10 miles of BLM-administered land, 1 mile of State land, and 4 miles of private land.

Sub-Alternative G provides an alternative alignment for approximately 3 miles of Alternative A at the south end of the Parkway. It is the route that has the least impact on resources and infrastructure in the area.

Best management practices, standard operating procedures and application proposed measures to avoid and minimize impacts would be implemented by the applicant during construction, reclamation, and operation of the Parkway. To comply with Section 106 of the National Historic Preservation Act, the BLM consulted with the Arizona State Historic Preservation Office and potentially affected Indian tribes, and executed a Programmatic Agreement to address possible adverse effects from the Parkway.

Comments on the Draft EIS pertained to a variety of issues including: Potential impacts from groundwater drawdown, possible socioeconomic impacts to the local communities, and impacts to wildlife and other natural resources. Substantive comments are addressed in the Final EIS. Public comments resulted in the addition of clarifying text, but did not substantially change the proposed project or alternatives between the Draft and Final EIS.

Authority: 40 CFR 1506.6, 40 CFR 1506.10.

Edward J. Kender,
Field Manager, Lower Sonoran Field Office.

[FR Doc. 2019-05290 Filed 3-21-19; 8:45 am]

BILLING CODE 4130-32-P